NUCLEAR REGULATORY COMMISSION

Appointments to Recertification Performance Review Boards for the Senior Executive Service

AGENCY: Nuclear Regulatory Commission.

ACTION: Appointment to Recertification Performance Review Boards for the Senior Executive Service.

SUMMARY: The U.S. Nuclear Regulatory Commission (NRC) has announced the following appointments to NRC Recertification Performance Review Boards.

The following individuals are appointed as members of the NRC Recertification Performance Review Board (PRB) responsible for making recommendations to the appointing and awarding authorities on recertification for Senior Executives:

Appointees

Patricia G. Norry, Deputy Executive Director for Management Services, Chair

Ellis Merschoff, Regional Administrator, Region IV

Stephen G. Burns, Deputy General Counsel

The following individuals are appointed as members of the NRC Recertification PRB Panel responsible for making recommendations to the appointing and awarding authorities on recertification of Recertification PRB members:

Appointees

Jesse L. Funches, Chief Financial Officer, Chair

Frank Miraglia, Deputy Executive Director for Reactor Programs

Dennis Rathbun, Director, Office of Congressional Affairs

All appointments are made pursuant to section 4314 of chapter 43 of title 5 of the United States Code.

EFFECTIVE DATE: October 11, 2000.

FOR FURTHER INFORMATION CONTACT: Carolyn J. Swanson, U.S. Nuclear Regulatory Commission, Washington, DC 20555 (301) 415-7530.

Dated at Rockville, Maryland, this 29th day of September, 2000.
For the U.S. Nuclear Regulatory Commission.
Carolyn J. Swanson,
Secretary, Executive Resources Board

[FR Doc. 00-26008 Filed 10-10-00; 8:45 am]

BILLING CODE 7590-01-P